SMALL BUSINESS ADMINISTRATION

[Disaster Declaration #11851 and #11852]

Kentucky Disaster #KY-00028

AGENCY: U.S. Small Business Administration.

ACTION: Notice.

SUMMARY: This is a Notice of the Presidential declaration of a major disaster for Public Assistance Only for the Commonwealth of Kentucky (FEMA-1855-DR), dated 08/24/2009.

Incident: Severe Storms, Straight-line Winds, and Flooding.

Incident Period: 08/04/2009.

Effective Date: 08/24/2009.

Physical Loan Application Deadline Date: 10/23/2009.

Economic Injury (EIDL) Loan Application Deadline Date: 05/24/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 08/24/2009, Private Non-Profit organizations that provide essential services of governmental nature may file disaster loan applications at the address listed above or other locally announced locations.

The following areas have been determined to be adversely affected by the disaster:

Primary Counties: Jefferson, Trimble.

The Interest Rates are:

| Percent
Other (Including Non-Profit Organizations) With Credit Available Elsewhere | 4.500
Businesses And Non-Profit Organizations Without Credit Available Elsewhere | 4.000

The number assigned to this disaster for physical damage is 11851B and for economic injury is 11852B

(Catalog of Federal Domestic Assistance Numbers 59002 and 59008)

James E. Rivera,
Acting Associate Administrator for Disaster Assistance.

[FR Doc. E9-20984 Filed 8-28-09; 8:45 am]

BILLING CODE 8025-01-P